DEPARTMENT OF DEFENSE

Department of the Army, Corps of Engineers

Notice of Availability of the Final Environmental Impact Statement for the Tarmac King Road Limestone Mine Proposed in Levy County, Florida

AGENCY: U.S. Army Corps of Engineers, DoD.

ACTION: Notice of availability.

SUMMARY: The U.S. Army Corps of Engineers (USACE) is issuing this notice to advise the public that a Final Environmental Impact Statement (Final EIS) has been completed and is available for review and comment.

DATES: In accordance with the National Environmental Policy Act (NEPA), we have filed the Final EIS with the U.S. Environmental Protection Agency (EPA) for publication of their notice of availability in the Federal Register. The EPA notice on August 16, 2013 officially starts the 30-day review period for this document. Comments on the Final EIS must be submitted to the address below under Further Contact Information and must be received no later than 5 p.m. Central Standard Time, September 15, 2013.

Scoping: Scoping Meetings were held in Inglis, FL and Chiefland, FL on March 26th and 27th, 2008 respectively, to gather information for the preparation of the EIS. Public notices were posted in Levy, Citrus, Alachua and Pinellas County newspapers, and emailed and air-mailed to current stakeholder lists with notification of the public meetings and requesting input and comments on issues that should be addressed in the EIS.

A public meeting for the Draft EIS was held on Thursday, May 31, 2012 at the Inglis Community Center, 137 Highway 40 West, Inglis, FL 34449. The purpose of that public meeting was to provide the public the opportunity to comment, either orally or in writing, on the Draft EIS. Notification of the meeting was announced following same format as the Scoping Meetings announcements. Comments received in response to the Draft EIS have been evaluated and incorporated into this Final EIS.

ADDRESSES: The Final EIS can be viewed online at http://kingroadeis.com. Copies of the Final EIS are also available for review at the following libraries:

Bronson Public Library—612 E Hathaway Ave., Bronson, Florida 32621.

Cedar Key Public Library—460 Second Street, Cedar Key, Florida 32625.

Luther Callaway Public Library—104 NE Third Street, Chiefland, Florida 32626.

Williston Public Library—10 SE First Street, Williston, Florida 32696.

A.F. Knotts Public Library—11 56th Street, Yankeetown, Florida 32698.

FOR FURTHER INFORMATION CONTACT: Mr. Ed Sarfert, Senior Project Manager, U.S. Army Corps of Engineers, Jacksonville District, 41 N. Jefferson Street, Suite 301, Pensacola, Florida 32502, Telephone: 850-439-9533, Fax: 850-433-8160.

SUPPLEMENTARY INFORMATION: Tarmac America L.L.C. (Tarmac) proposes to construct a limestone mine in Levy County, Florida to produce FDOT- and commercial-grade limestone aggregate for markets within west-central Florida. As proposed, direct impacts of up to 2,069 acres of wetlands and 1,818 acres of uplands would occur directly from limestone extraction, material stockpiling, roads, and other infrastructure over a period of approximately 100 years. At present, the majority of the property is an actively managed timber operation, with most of the site in varying developmental stages of pine plantation and mixed hardwood/pine forest. Much of the surrounding land is in silviculture use, with scattered residential parcels. The information compiled in this EIS will be used by the USACE to determine whether the proposed activities should be authorized and permitted by the USACE. Tarmac would need to obtain a Department of the Army permit pursuant to Section 404 of the Clean Water Act. This Final EIS evaluates the potential environmental impacts associated with a no action alternative, and seven onsite action alternatives, including Tarmac's preferred alternative above. Under the seven other alternatives analyzed in the Final EIS, mining activities involving discharges of fill material in wetlands could be authorized for varying acreages and lengths of time upon issuance of a Record of Decision.

Dated: August 12, 2013.
Tori K. White,
Deputy Chief, Regulatory Division.

[FR Doc. 2013-19965 Filed 8-15-13; 8:45 am]

BILLING CODE 3720-58-P